DEPARTMENT OF TRANSPORTATION

Federal Aviation Administration

14 CFR Part 39

[Docket No. FAA-2007-28246; Directorate Identifier 2007-CE-048-AD; Amendment 39-15367; AD 2008-03-16]

RIN 2120-AA64

Airworthiness Directives; Cirrus Design Corporation Models SR20 and SR22 Airplanes

AGENCY: Federal Aviation Administration (FAA), Department of Transportation (DOT).

ACTION: Final rule.

SUMMARY: We are adopting a new airworthiness directive (AD) for certain Cirrus Design Corporation (CDC) Models SR20 and SR22 airplanes. This AD requires you to inspect the rudder, aileron, and rudder-aileron interconnect rigging; correct any out-of-rig condition; replace the attaching hardware for the rudder-aileron interconnect arm; and report any out-of-rig condition found. This AD results from a jamming of the aileron and rudder controls on a Model SR20 airplane, which resulted in loss of rudder and aileron flight controls. We are issuing this AD to prevent the possibility of jamming of the rudder-aileron interconnect system, which may result in loss of rudder and aileron flight controls.

DATES: This AD becomes effective on March 11, 2008.

On March 11, 2008, the Director of the Federal Register approved the incorporation by reference of certain publications listed in this AD.

ADDRESSES: For service information identified in this AD, contact Cirrus Design Corporation, 4515 Taylor Circle, Duluth, Minnesota 55811; telephone: (218) 727-2737; internet address: http://www.cirrusdesign.com.

To view the AD docket, go to U.S. Department of Transportation, Docket Operations, M-30, West Building Ground Floor, Room W12-140, 1200 New Jersey Avenue, SE., Washington, DC 20590, or on the Internet at http://www.regulations.gov. The docket number is FAA-2007-28246; Directorate Identifier 2007-CE-048-AD.

FOR FURTHER INFORMATION CONTACT: Wess Rouse, Aerospace Engineer, 2300 East Devon Avenue, Room 107, Des Plaines, Illinois 60018; telephone: (847) 294-8113; fax: (847) 294-7834.

SUPPLEMENTARY INFORMATION:

Discussion

On November 28, 2007, we issued a proposal to amend part 39 of the Federal Aviation Regulations (14 CFR part 39) to include an AD that would apply to certain CDC Models SR20 and SR22 airplanes. This proposal was published in the Federal Register as a supplemental notice of proposed rulemaking (NPRM) on December 4, 2007 (72 FR 68108). The NPRM proposed to require you to inspect the rudder, aileron, and rudder-aileron interconnect rigging; correct any out-of-rig condition; replace the attaching hardware for the rudder-aileron interconnect arm; and require you to report any out-of-rig condition found.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 2,435 airplanes in the U.S. registry.

We estimate the following costs to do the inspection of the rudder, aileron, and rudder-aileron interconnect rigging, and replacement of the attaching hardware for the rudder-aileron interconnect arm and RH aileron cable clamps:

Labor cost | Parts cost | Total cost per airplane | Total cost on U.S. operators
1.5 work-hours × $80 per hour = $120 | $18 | $138 | $336,030

CDC will provide warranty credit to the extent noted in Service Bulletin SB 2X-27-14 R3, Revised: October 10, 2007.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-28246; Directorate Identifier 2007-CE-048-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2008-03-16 Cirrus Design Corporation: Amendment 39-15367; Docket No. FAA-2007-28246; Directorate Identifier 2007-CE-048-AD.

Effective Date

(a) This AD becomes effective on March 11, 2008.

Affected ADs

(b) None.

Applicability

(c) This AD applies to Model SR20 airplanes, serial numbers (SN) 1005 through 1861, and Model SR22 airplanes, SN 0002 through 2333, SN 2335 through 2419, and SN 2421 through 2437, that are certificated in any category.

Unsafe Condition

(d) This AD results from an incident of jamming of the aileron and rudder controls on a Model SR20 airplane and the possibility of the occurrence on other airplanes. In addition, other Models SR20 and SR22 airplanes have been found with misrigging of the flight controls that could lead to jamming. We are issuing this AD to prevent the possibility of jamming of the rudder-aileron interconnect system, which may result in loss of rudder and aileron flight controls.

Compliance

(e) To address this problem, you must do the following, unless already done:

Actions | Compliance | Procedures
(1) Inspect the rudder, aileron, and rudder-aileron interconnect rigging; correct any out-of-rig condition; and replace the attaching hardware for the rudder-aileron interconnect arm | At whichever occurs first: (i) Within the next 25 hours time-in-service (TIS) after March 11, 2008 (the effective date of this AD); or (ii) Within the next 3 months after March 11, 2008 (the effective date of this AD) | Follow Cirrus Service Bulletin No. SB 2X-27-14 R3, Revised: October 10, 2007.
(2) Only if you find an out-of-rig condition: Report to the FAA any out-of-rig conditions discovered as a result of the inspection required by paragraph (e)(1) of this AD on the form in Figure 1 of this AD. The Office of Management and Budget (OMB) approved the information contained in this regulation under the provisions of the Paperwork Reduction Act and assigned OMB Control Number 2120-0056 | At whichever occurs later: (i) Within 10 days after the inspection required in paragraph (e)(1) of this AD; or (ii) Within 10 days after March 11, 2008 (the effective date of this AD) | Send the form (Figure 1 of this AD) to FAA, Manufacturing Inspection District Office, 6020 28th Avenue South, Room 103, Minneapolis, Minnesota 55450-2700; telephone (612) 713-4366; facsimile (612) 713-4365.

Note: Temporary revisions to the airplane maintenance manuals (AMM), SR20 AMM Temporary Revision No. 27-1 and SR22 AMM Temporary Revision No. 27-1, both dated October 10, 2007, contain information pertaining to this subject.

BILLING CODE 4910-13-P

BILLING CODE 4910-13-C

Alternative Methods of Compliance (AMOCs)

(f) The Manager, Chicago Aircraft Certification Office (ACO), FAA, has the authority to approve AMOCs for this AD, if requested using the procedures found in 14 CFR 39.19. Send information to ATTN: Wess Rouse, Aerospace Engineer, 2300 East Devon Avenue, Room 107, Des Plaines, Illinois 60018; telephone: (847) 294-8113; fax: (847) 294-7834. Before using any approved AMOC on any airplane to which the AMOC applies, notify your appropriate principal inspector (PI) in the FAA Flight Standards District Office (FSDO), or lacking a PI, your local FSDO.

Material Incorporated by Reference

(g) You must use Cirrus Service Bulletin No. SB 2X-27-14 R3, Revised: October 10, 2007, to do the actions required by this AD, unless the AD specifies otherwise.

(1) The Director of the Federal Register approved the incorporation by reference of this service information under 5 U.S.C. 552(a) and 1 CFR part 51.

(2) For service information identified in this AD, contact Cirrus Design Corporation, 4515 Taylor Circle, Duluth, Minnesota 55811; telephone: (218) 727-2737; internet address: www.cirrusdesign.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on January 29, 2008.
John Colomy,
Acting Manager, Small Airplane Directorate, Aircraft Certification Service.

[FR Doc. E8-2044 Filed 2-4-08; 8:45 am]

BILLING CODE 4910-13-P